FEDERAL MARITIME COMMISSION

Ocean Transportation Intermediary License Reissuances

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR Part 515.

License No. | Name/address | Date reissued
019059F | Alliance Logistics, Inc., 2225 West Commonwealth Ave., Suite 103, Alhambra, CA 91803 | February 19, 2009.
019727N | Cargo Logistics LLC, 3294 Ashley Phosphate Road, Suite 2C, North Charleston, SC 29418 | February 9, 2009.
000751F | International Forwarders, Inc., 1350 Ashley River Road, Charleston, SC 29407-5347 | January 22, 2009.
020780N | Kevin Jung dba US Global Logistics, 540 S. Catalina Street, Suite 209, Los Angeles, CA 90020 | February 26, 2009.

Sandra L. Kusumoto,
Director, Bureau of Certification and Licensing.

[FR Doc. E9-8593 Filed 4-14-09; 8:45 am]

BILLING CODE 6730-01-P